DEPARTMENT OF ENERGY

Federal Energy Regulatory Commission

Combined Notice of Filings

Take notice that the Commission has received the following Natural Gas Pipeline Rate and Refund Report filings:

Filings Instituting Proceedings

Docket Numbers: RP23-77-000.

Applicants: ANR Pipeline Company.

Description: § 4(d) Rate Filing: Jackson Generation #132120-1 NCNR to be effective 11/1/2022.

Filed Date: 10/26/22.

Accession Number: 20221026-5203.

Comment Date: 5 p.m. ET 11/7/22.

Docket Numbers: RP23-78-000.

Applicants: Algonquin Gas Transmission, LLC.

Description: § 4(d) Rate Filing: Negotiated Rates—Amended Excelerate 510850 eff 11-01-22 to be effective 11/1/2022.

Filed Date: 10/26/22.

Accession Number: 20221026-5215.

Comment Date: 5 p.m. ET 11/7/22.

Docket Numbers: RP23-79-000.

Applicants: Transcontinental Gas Pipe Line Company, LLC.

Description: Compliance filing: Annual Penalty Revenue Sharing Report 2022 to be effective N/A.

Filed Date: 10/27/22.

Accession Number: 20221027-5020.

Comment Date: 5 p.m. ET 11/8/22.

Docket Numbers: RP23-80-000.

Applicants: Destin Pipeline Company, L.L.C.

Description: Compliance filing: Destin Pipeline Annual Fuel Retention Adjustment to be effective N/A.

Filed Date: 10/27/22.

Accession Number: 20221027-5037.

Comment Date: 5 p.m. ET 11/8/22.

Docket Numbers: RP23-81-000.

Applicants: Carolina Gas Transmission, LLC.

Description: § 4(d) Rate Filing: CGT—October 27, 2022 Administrative Change to be effective 12/1/2022.

Filed Date: 10/27/22.

Accession Number: 20221027-5043.

Comment Date: 5 p.m. ET 11/8/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2022.
Debbie-Anne A. Reese,
Deputy Secretary.

[FR Doc. 2022-23841 Filed 11-1-22; 8:45 am]

BILLING CODE 6717-01-P